DEPARTMENT OF DEFENSE

Office of the Secretary

[Transmittal Nos. 13-33]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 13-33 with attached Transmittal, Policy Justification, and Sensitivity of Technology.

Dated: August 2, 2013.
Aaron Siegel,
Alternate OSD Federal Register Liaison Officer, Department of Defense.

Transmittal No. 13-33

Notice of Proposed Issuance of Letter of Offer Pursuant to Section 36(b)(1) of the Arms Export Control Act, as amended

(i) Prospective Purchaser: Qatar

(ii) Total Estimated Value:

Major Defense Equipment * | $ .800 billion
Other | $ .300 billion
TOTAL | $1.100 billion

(iii) Description and Quantity or Quantities of Articles or Services underconsideration for Purchase: one (1) A/N FPS-132 Block 5 Early Warning Radar (EWR) to include a Prime Mission Equipment package, technical and support facilities, communication equipment, encryption devices, spare and repair parts, support and test equipment, publications and technical documentation, publications and technical documentation, personnel training and training equipment, U.S. Government and contractor engineering, technical and logistics support services; and related elements of logistics and program support.

(iv) Military Department: Air Force (DAE)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: 29 July 2013

* As defined in Section 47(6) of the Arms Export Control Act.

POLICY JUSTIFICATION

Qatar—AN/FPS-132 Block 5 Early Warning Radar

The Government of Qatar has requested a possible sale of one (1) A/N FPS-132 Block 5 Early Warning Radar (EWR) to include Prime Mission Equipment package, technical and support facilities, communication equipment, encryption devices, spare and repair parts, support and test equipment, publications and technical documentation, publications and technical documentation, personnel training and training equipment, U.S Government and contractor engineering, technical and logistics support services; and related elements of logistics and program support. The estimated cost is $1.1B.

This proposed sale will contribute to the foreign policy and national security of the United States by helping to improve the security of a friendly country that has been, and continues to be, an important force for political stability and economic progress in the Middle East.

This proposed sale will help strengthen U.S. efforts to promote regional stability by enhancing regional defense to a key U.S. ally. The acquisition of this air defense system would provide a permanent defensive capability to the Qatar Peninsula as well as protection of the economic infrastructure and well-being of Qatar. The proposed sale will help strengthen Qatar's capability to counter current and future threats in the region and reduce dependence on U.S. forces. Qatar will have no difficulty absorbing this radar system into its armed forces.

The proposed sale of this equipment and support will not alter the basic military balance in the region.

The principal contractor will be Raytheon Company in Woburn, Massachusetts. There are no known offset agreements proposed in connection with this potential sale at this time.

Implementation of this proposed sale will require the assignment of additional U.S. Government or contractor representatives to Qatar. The number of U.S. Government and contractor representatives required in Qatar to support the program will be determined in joint negotiations as the program proceeds through the development, production and equipment installation phases.

There will be no adverse impact on U.S. defense readiness as a result of this proposed sale.

Transmittal No. 13-33

Notice of Proposed Issuance of Letter of Offer Pursuant to Sect5ion 36(b)(1) Of the Arms Export Control Act

Annex

Item No. vii

(vii) Sensitivity of Technology:

1. The AN/FPS-132 Block 5 supports Missile Defense, Space Situational Awareness, and Missile Warning mission areas. The Block 5 system employs 3 electronically steered phased array radar faces to survey 360 degree azimuth. The Block 5 system is capable of reporting airborne tracks to a maximum range of up to 2000 km and to a minimum radar cross-section (RCS) of 1 m2.

2. If a technologically advanced adversary were to obtain knowledge of the specific hardware or software in this proposed sale, the information could be used to develop countermeasures that might reduce system effectiveness or be used in the development of a system with similar or advanced capabilities.

[FR Doc. 2013-19119 Filed 8-7-13; 8:45 am]

BILLING CODE 5001-06-P